DEPARTMENT OF HEALTH AND HUMAN SERVICES

Health Resources and Services Administration

Poison Control Centers Stabilization and Enhancement Program

AGENCY: Health Resources and Services Administration, HHS.

ACTION: Notice; request for public comment.

SUMMARY: The Health Resources and Services Administration (HRSA) is seeking comments from the public on its plan to institute a permanent deviation from a policy in the Department of Health and Human Services (HHS), Grants Policy Directive (GPD) 3.01 governing indirect cost recovery for one of its grant programs. The GPD states “HHS considers activities conducted by grantees that result in indirect charges a necessary and appropriate part of HHS grants, and HHS awarding offices must reimburse their share of these costs.” Although HRSA typically reimburses grantees for their full share of administrative overhead represented in approved indirect cost rates (which can be up to 50 percent), the agency believes, in the case of its Poison Control Program, that full recovery of overhead expenditures would be detrimental to the poison control centers (PCCs) funded under the program because of the financial instability of PCCs. The purpose of the HRSA Poison Control Centers Stabilization and Enhancement Grant Program is to assist PCCs in achieving financial stability, preventing poisonings and providing treatment recommendations for poisonings. Limiting indirect costs is necessary because many PCCs are located within institutions such as universities and hospitals that have established indirect cost rates in the range of 30 to 50 percent. It is in the best interest of PCCs to limit the indirect cost recovery to 10 percent, leaving 90 percent of the grant funds to achieve the objectives of the grant program. This limitation would be applicable to all awardees of the Poison Control Center Stabilization and Enhancement Grant Programs.

DATES: If you wish to comment on any portion of this notice, HRSA must receive comments by March 15, 2007.

ADDRESSES: You may submit comments by any of the following methods:

• E-mail: lroche@hrsa.gov. Include “Poison Control Stabilization and Enhancement Program” in the subject line of the message.

• Mail: Lori Roche, Division of Healthcare Preparedness, Healthcare Systems Bureau, Health Resources and Services Administration (HRSA), 5600 Fishers Lane, Room 13-103, Rockville, MD 20857.

• Hand Delivery/Courier: Lori Roche, Division of Healthcare Preparedness, Healthcare Systems Bureau, Health Resources and Services Administration (HRSA), 5600 Fishers Lane, Room 13-103, Rockville, MD 20857.

Docket: For access to the docket to read background documents or comments received, go to the Division of Healthcare Preparedness, Healthcare Systems Bureau, Health Resources and Services Administration (HRSA), 5600 Fishers Lane, Room 13-103, Rockville, Maryland, 20857, weekdays between the hours of 8:30 a.m. and 5 p.m. To schedule an appointment to view public comments, phone (301) 443-0652.

FOR FURTHER INFORMATION CONTACT: Lori Roche, at the above address, telephone number 301-443-0652.

SUPPLEMENTARY INFORMATION: The Health Resources and Services Administration's (HRSA) Poison Control Program (PCP) was established in February 2000 under the Poison Center Enhancement and Awareness Act, Pub. L. 106-174. The program was reauthorized in 2003 under the Poison Control Center Enhancement and Awareness Act, Amendments of 2003, Pub. L. 108-194. This Act authorizes funding to maintain the national toll-free number; establish a nationwide media campaign to promote poison control center (PCC) utilization; maintain the PCC grant program; develop standardized poison prevention and poison control promotion programs; develop standard patient management guidelines for commonly encountered toxic exposures; improve and expand the poison control data collection activities; improve national toxic exposure surveillance by enhancing activities at the Centers for Disease Control and Prevention and the Agency for Toxic Substances and Disease Registry; expand the toxicologic expertise within PCCs; and improve the capacity of PCCs to answer high volumes of calls during times of national crisis.

The grant program that was established, in response to the legislation, provides funding for the financial stabilization, certification and incentive grants. Financial stabilization grants provide assistance to PCCs that are certified by the American Association of Poison Control Centers (AAPCC). The intent of the financial stabilization program is to assist PCCs in poison prevention and to help stabilize their funding structure. Certification grants have previously been awarded to poison centers that do not meet the AAPCC's certification standards and thereby do not qualify for assistance under the financial stabilization grant category. These grants were designed to assist uncertified centers in achieving certification by the AAPCC. The incentive grants have previously been awarded to PCCs that are working collaboratively and innovatively with one another and other public health agencies to improve, enhance and expand poison control systems and services. Assistance under the three grant categories is in the form of grant funds and technical assistance.

PCCs provide poison services and prevention education to combat deaths and injuries due to poisonings. PCCs also serve as part of the Nation's surveillance and first response system, providing a continuum of emergency services, which is needed to confront the threat of bioterrorism. While PCCs provide a benefit to the public health community, their funding structures are unstable and are derived from a variety of sources, including Federal, State, and local government, as well as corporate and foundation donations.

Since inception, the Federal Poison Control Program has helped PCCs meet the needs of the public and poison community. According to the Evaluation of the Effectiveness of the Poison Control Centers Grant Program, a study conducted by Battelle Centers for Public Health Research and Evaluation (a research service organization), the Federal program represents a lifeline for poison centers. During the first two grant years alone, PCCs made remarkable strides in accomplishing the objectives outlined in their grant proposals. The program finds this to still be true after four years of the grant program.

The PCC grant guidance has limited indirect costs to 10 percent of allowable total direct costs since 2001. However, for the 2005 grant funding opportunity guidance, a request to deviate from the Department of Health and Human Services (DHHS) Grants Policy Directive (GPD) 3.01, Indirect Costs and Other Cost Policies was required; it was submitted and approved by the DHHS, Office of Grants Management Policy, Assistant Secretary for Administration and Management on March 23, 2005. The grant program initiated this limitation on the recoverable indirect costs because many PCCs are located within universities and hospitals that have established indirect cost rate agreements in the range of 30 to 50 percent. In adhering to the existing GPD policy, as much as 50 percent of grants funds could be consumed for administrative purposes by the host institution, which significantly reduces the amount of funds available to carry out the objectives of the authorizing legislation and grant program.

Continuation of this indirect cost limitation will greatly enhance the awardees' ability to become financially stable, which is the intent of the grant program. However, reduced funding would reverse the success of the grant program to date in helping to stabilize PCCs funding structure and meet the objectives of the grant program. Historically, reduced and insufficient funding has forced many PCCs to decrease center operations and terminate critical staff that provides free poison prevention and expert poison treatment services to the public. Termination of critical operational staff can result in the loss of PCC certification status, which will disqualify centers from receiving Federal Poison Control Program funding. For many centers, this can lead to closure, which can also weaken our Nation's first response system to poisoning emergencies, biological, chemical and nuclear terrorism.

Public Comment

HRSA invites public comment on its plan to indefinitely limit indirect costs to 10 percent of the total allowable direct costs for awardees of the Poison Control Center Stabilization and Enhancement Grant Program.

Dated: February 6, 2007.
Elizabeth M. Duke,
Administrator.

[FR Doc. E7-2365 Filed 2-12-07; 8:45 am]

BILLING CODE 4165-15-P